ENVIRONMENTAL PROTECTION AGENCY

40 CFR Part 52

[EPA-R09-OAR-2011-0461; FRL-9309-4]

Revisions to the California State Implementation Plan, Placer County Air Pollution Control District and Feather River Air Quality Management District

AGENCY: Environmental Protection Agency (EPA).

ACTION: Proposed rule.

SUMMARY: EPA is proposing a limited approval and limited disapproval of permitting rules submitted for the Placer County Air Pollution Control District (PCAPCD) and Feather River Air Quality Management District (FRAQMD) portion of the California State Implementation Plan (SIP). The districts are required under Part D of title I of the Clean Air Act (CAA) to adopt and implement a SIP-approved New Source Review (NSR) permit program. These rules update and revise the District's NSR permitting program for new and modified sources of air pollution. If EPA finalizes the limited approval and limited disapproval action, as proposed, then a sanctions clock would be triggered. We are taking comments on this proposal and plan to follow with a final action.

DATES: Any comments must arrive by June 20, 2011.

ADDRESSES: Submit comments, identified by docket number EPA-R09-OAR-2011-0461, by one of the following methods:

1. Federal eRulemaking Portal: http://www.regulations.gov. Follow the on-line instructions.

2. E-mail: R9airpermits@epa.gov.

3. Mail or deliver: Gerardo Rios (Air-3), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment. Electronic files should avoid the use of special characters, any form of encryption, and be free of any defects or viruses.

Docket: EPA has established a docket for this action under EPA-R09-OAR-2011-0461. Generally, documents in the docket for this action are available electronically at http://www.regulations.gov or in hard copy at EPA Region IX, 75 Hawthorne Street, San Francisco, California. While all documents are listed at http://www.regulations.gov, some information may be publicly available only at the hard copy location (e.g., copyrighted material, large maps, multi-volume reports), and some may not be publicly available in either location (e.g., CBI). To inspect the hard copy materials, please schedule an appointment during normal business hours with the contact listed in the FOR FURTHER INFORMATION CONTACT section.

FOR FURTHER INFORMATION CONTACT: Laura Yannayon, EPA Region IX, (415) 972-3534, yannayon.laura@epa.gov.

SUPPLEMENTARY INFORMATION: Throughout this document, “we,” “us” and “our” refer to EPA.

Table of Contents

I. The State's Submittal

A. What rules did the State submit?

B. Are there other versions of these rules?

C. What is the purpose of the submitted rules?

II. EPA's Evaluation and Action

A. How is EPA evaluating the rules?

B. Do the rules meet the evaluation criteria?

C. Public Comment and Proposed Action

III. Statutory and Executive Order Reviews

I. The State's Submittal

A. What rules did the State submit?

Table 1 lists the rules addressed by this proposal, including the date it was adopted by the local air agency and submitted by the California Air Resources Board (CARB).

Table 1—Submitted Rule
Local agency | Rule No. | Rule title | Amended | Submitted
PCAPCD | 502 | New Source Review | 10/28/10 | 7/20/10
FRAQMD | 10.1 | New Source Review | 10/5/09 | 7/20/10

On August 25, 2010, EPA determined that the submittal for PCAPCD Rule 502 and FRAQMD Rule 10.1, met the completeness criteria in 40 CFR part 51, Appendix V, which must be met before formal EPA review.

B. Are there other versions of these rules?

There are no previous versions of Rule 502 in the SIP, but SIP approved Rule 508 (New Source Review), which this rule will replace in the SIP, was approved into the Mountain Counties and Lake Tahoe air basin portions of the Placer County SIP, on June 23, 1982 (47 FR 27065) and May 18, 1981 (46 FR 27115), respectively. The PCAPCD originally adopted new Rule 502 on May 24, 1977 and has revised the rule several times since that date, but there are no other pending SIP submittals of Rule 502.

There are no previous versions of Rule 10.1 in the SIP. The FRAQMD originally adopted new Rule 10.1 on February 8, 1993, and submitted the rule to EPA on March 23, 1993, however EPA has not taken action on this submittal. While we can act on only the most recently submitted version, we have reviewed materials provided with the previous submittal.

C. What is the purpose of the submitted rules?

Section 110(a) of the CAA requires states to submit regulations that include a pre-construction permit program for certain new or modified stationary sources of pollutants, including a permit program as required by Part D of Title I of the CAA.

The purpose of Rule 502 (New Source Review) and Rule 10.1 (New Source Review) is to implement a federal preconstruction permit program for new and modified sources located in nonattainment areas. Rule 502 will replace the existing SIP approved NSR programs contained in Rule 508, as approved for the Mountain Counties and Lake Tahoe air basin potions of Placer County. These versions of Rule 508 were approved into the SIP in 1981 and 1982 respectively. Rather than try to update these rules, the District has instead adopted an entirely new rule to carry out the NSR program—Rule 502. Rule 10.1 will be a new SIP rule. In accordance with both District's May 5, 2010 (75 FR 24409) reclassification as a severe ozone nonattainment area, the rules establish BACT ¹ and offset applicability thresholds at 25 tpy or more, and sets the required offset ratio at 1.3 to 1, or greater. The rules do not contain any of the 2002 NSR Reform provisions adopted by EPA. (67 FR 80186)

¹ While the District uses the term BACT as the level of control required, a review of the definition has shown that it is equivalent to the requirements for federal LAER.

II. EPA's Evaluation and Action

A. How is EPA evaluating the rules?

The relevant statutory provisions for our review of the submitted rules include Part D of Title I of the CAA, section 110(a)(2)(C), section 110(l) and section 182(d). Section 110(a) requires a pre-construction permit programs for certain new or modified stationary sources of pollutants, including a permit program as required by Part D of Title I, while section 110(l) precludes EPA approval of SIP revisions that would interfere with any applicable requirement concerning attainment and reasonable further progress or any other applicable requirement of the Act. Section 182(d) (together with section 182(f) for NOX), requires NSR SIPs in “severe” nonattainment areas to define “major sources” and “major modifications” to be sources that emit 25 tpy or more of VOC or NOX, and have an offset ratio of at least 1.3 to 1. In addition, we have reviewed the submitted rules for compliance with EPA implementing regulations for NSR, including 40 CFR 51.160 through 40 CFR 51.165.

B. Do the rules meet the evaluation criteria?

EPA has reviewed the submitted rules in accordance with the Rule Evaluation criteria described above. The TSDs (one for each District) for this action contain a complete discussion of our evaluation. EPA is proposing to find that these rules meet the statutory requirements for SIPs as specified in sections 110(a), 110(l), 182(d) and 193 of the CAA. In addition, except for the deficiencies noted in the TSDs and summarized in the Proposed Action section of this notice, we are proposing to find that the rules meet the regulatory requirements of 40 CFR 51.160 through 40 CFR 51.165. EPA is proposing to find that it is acceptable for PCAPCD and FRAQMD to not incorporate the NSR Reform provisions of 40 CFR 51.165 into their SIP approved NSR programs, because the same level of control will be required for modified sources, with or without inclusion of these provisions in the SIP, and neither of the PCAPCD and FRAQMD programs will be any less stringent than the federal program.

C. Public Comment and Proposed Action

For the reasons given above, under CAA section 110(k)(3) and 301(a), we are proposing a limited approval and limited disapproval of Rule 502 and Rule 10.1 because, although each rule would strengthen the SIP and they meet the applicable requirements for SIPs in general, they contain certain deficiencies related to NSR SIPs in particular that prevent our full approval. The primary deficiencies pertain to missing definitions and missing provisions pursuant to 40 CFR 51.165(a)(5)(ii) and 40 CFR 51.307(b)(2). Please refer to the TSD for this action for additional information. The deficiencies can be remedied by each District by revising their rule to provide the missing definitions, and necessary provisions pursuant to the 40 CFR part 51 sections cited above. If EPA finalizes the limited approval and limited disapproval action, as proposed, then a sanctions clock, and EPA's obligation to promulgate a Federal implementation plan, would be triggered because the revisions to the District rule for which a limited approval and limited disapproval is proposed is required under the 8-hour ozone standard.

We will accept comments from the public on this proposal for the next 30 days. Unless we receive convincing new information during the comment period, we intend to publish a final action that will incorporate these rules into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Ozone, Particulate matter, Reporting and recordkeeping requirements, Volatile organic compounds.

Authority: 42 U.S.C. 7401 et seq.

Dated: May 13, 2011.
Keith Takata,
Acting Regional Administrator, Region IX.

[FR Doc. 2011-12445 Filed 5-18-11; 8:45 am]

BILLING CODE 6560-50-P